DEPARTMENT OF HOUSING AND URBAN DEVELOPMENT

[Docket No. FR-4652-N-19]

Notice of Proposed Information Collection for Public Comment for Model Form of Agreement Between Owner and Design Professional; Contract Provisions Required by Federal Law or Owner Contract With the Department of Housing and Urban Development

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: February 26, 2002.

ADDRESSES: Interested persons are invited to submit comments regarding this proposal. Comments should refer to the proposal by name and/or OMB Control number and should be sent to: Mildred M. Hamman, Reports Liaison Officer, Public and Indian Housing, Department of Housing and Urban Development, 451 7th Street SW., Room 4238, Washington, DC 20410-5000.

FOR FURTHER INFORMATION CONTACT: Mildred M. Hamman, (202) 708-0614, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Model Form of Agreement Between Owner and Design Professional; Contract Provisions Required by Federal Law or Owner Contract with the U.S. Department of Housing and Urban Development.

OMB Control Number: 2577-0015.

Description of the need for the information and proposed use: The contractural agreements between a HUD grantee (housing agency (HA), and an architect/engineer (A/E) for design and construction services establish responsibilities of both parties pursuant to the contract. The HA and A/E are not required by the contract to submit any materials to HUD. These contractural agreements are required by Federal Law 85.36. Signing of the contracts is required to obtain or retain benefits.

Agency form number: HUD-51915, HUD-51915-A.

Members of affected public: State, Local Government, Business or other for-profit.

Estimation of the total number of hours needed to prepare the information collection including number of respondents; frequency of response, and hours of response: 2,630 projects (respondents), one A/E contract per project, two hours per contract, 5,260 hours includes signing the contracts and preparation of the contracts using the model form of agreement. 657 total annual recordkeeping burden (2,630 projects × .25 hours/contract).

Status of the proposed information collection: Extension.

Authority: Section 3506 of the paperwork Reduction Act of 1995, 44 U.S.C. Chapter 35, as amended.

Dated: December 18, 2001.
Michael Liu,
Assistant Secretary, for Public and Indian Housing.

BILLING CODE 4210-33-C

[FR Doc. 01-31853 Filed 12-27-01; 8:45 am]

BILLING CODE 4210-33-M